DEPARTMENT OF ENERGY

Proposed Agency Information Collection Regarding the Energy Priorities and Allocations System

AGENCY: U.S. Department of Energy.

ACTION: Notice and Request for Comments.

SUMMARY: The Department of Energy (DOE) invites public comment on a proposed extension of a collection of information that DOE is developing for submission to the Office of Management and Budget (OMB) pursuant to the Paperwork Reduction Act of 1995.

DATES: Comments regarding this proposed information collection extension must be received on or before July 3, 2017. If you anticipate difficulty in submitting comments within that period, contact the person listed in ADDRESSES as soon as possible.

ADDRESSES: Written comments may be sent to Dr. Kenneth Friedman, U.S. Department of Energy, OE-30, 1000 Independence Avenue SW., Washington, DC 20585 or by fax at 202-586-2623, or by email at Kenneth.friedman@hq.doe.gov.

FOR FURTHER INFORMATION CONTACT: Requests for additional information or copies of the information collection instrument and instructions should be directed to Dr. Kenneth Friedman, U.S. Department of Energy, OE-30, 1000 Independence Avenue SW., Washington, DC 20585.

SUPPLEMENTARY INFORMATION: This information collection request contains: (1) OMB No. 1910-5159; (2) Information Collection Request Title: Energy Priorities and Allocations System; (3) Type of Request: Extension; (4) Purpose: To meet requirements of the Defense Production Act (DPA) priorities and allocations authority with respect to all forms of energy necessary or appropriate to promote the national defense. Data supplied will be used evaluate applicants requesting special priorities assistance to fill a rated order issued in accordance with the DPA and DOE's implementing regulations. Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

This data will also be used to conduct audits and for enforcement purposes. This collection will only be used if the Secretary of Energy determines that his authority under the DPA is necessary to prevent or address an energy shortage or energy reliability concern. The last collection by DOE under this authority was in 2001; (5) Annual Estimated Number of Respondents: 10, as this collection is addressed to a substantial majority of the energy industry; (6) Annual Estimated Number of Total Responses: 10, as this collection is addressed to a substantial majority of the energy industry; (7) Annual Estimated Number of Burden Hours: 32 minutes per response; (8) Annual Estimated Reporting and Recordkeeping Cost Burden: $0.

Statutory Authority: Defense Production Act of 1950 as amended (50 U.S.C. 4501, et seq.); Executive Order 13603.

Issued in Washington, DC, on April 2017.
Devon Streit,
Deputy Assistant Secretary, Office of Electricity Delivery and Energy Reliability.

[FR Doc. 2017-08936 Filed 5-2-17; 8:45 am]

BILLING CODE 6450-01-P